DEPARTMENT OF HEALTH AND HUMAN SERVICES

Centers for Disease Control and Prevention

The National Center for HIV, STD, and TB Prevention, Division of HIV/AIDS Prevention, Centers for Disease Control and Prevention (CDC) Announces the Following Meetings

Name: Regional Meetings on STD and HIV Prevention Needs of Men Who Have Sex With Men (MSM).

Times and Dates:

8:30 a.m.-5:30 p.m., September 24, 2001

8:30 a.m.-5:30 p.m., September 25, 2001

Place: Southern Region Meeting, Radisson Hotel New Orleans, New Orleans, LA, 1500 Canal Street, New Orleans, LA 70112, Phone: 504-522-4500

Times and Dates:

8:30 a.m.-5:30 p.m., October 30, 2001

8:30 a.m.-5:30 p.m., October 31, 2001

Place: Midwestern Region Meeting, Holiday Inn Chicago City Centre, 300 East Ohio Street, Chicago, IL 60611, Phone: 312-787-6100

Times and Dates:

8:30 a.m.-5:30 p.m., November 26, 2001

8:30 a.m.-5:30 p.m., November 27, 2001

Place: Western Region Meeting, University of Southern California, Davidson Executive Conference Center, Los Angeles, CA 90089, Phone: 213-740-5956

Times and Dates:

8:30 a.m.-5:30 p.m., December 11, 2001

8:30 a.m.-5:30 p.m., December 12, 2001

Place: Eastern Region Meeting, New York Marriott Brooklyn, 333 Adams Street, Brooklyn, NY 11201, Phone: 718-246-7000 ext. 6519

Status: Open to the public, but limited by the space available. The meeting rooms accommodate approximately 200 people. Registration is free, but required. Forms can be obtained by emailing cmotamed@aed.org. Reservations can be made directly with the hotel. There is a not a specific conference room block. For information on hotels in Los Angeles, CA, contact cmotamed@aed.org.

Purpose: To bring representatives from state and local government, community based STD and HIV prevention programs and MSM community members together to review epidemiological STD, HIV, and Hepatitis A and B trends among MSM populations, review effective behavioral interventions for MSM populations and to strategize on how to address the future STD and HIV prevention needs of MSM.

Matters To Be Discussed: Agenda items include plenary presentations, interactive small group breakout sessions, and discussion groups in which participants will learn new information, acquire skills, and work together to develop action plans for their jurisdictions.

CONTACT PERSON FOR MORE INFORMATION: Charles Collins, National Center for HIV, STD, and TB Prevention, Division of HIV/AIDS Prevention, 1600 Clifton Rd., NE, M/S E-40, Atlanta, GA 30333, telephone 404-639-0966.

Cathy Motamed, AED Center for Community-Based Health Strategies, 1825 Connecticut Ave., NW, Washington, DC 20009, telephone 202-884-8929, email cmotamed@aed.org.

The Director, Management and Analysis and Services Office, has been delegated the authority to sign Federal Register Notices pertaining to announcements of meetings and other committee management activities, for both the Centers for Disease Control and Prevention and the Agency for Toxic Substances and Disease Registry.

Dated: August 24, 2001.
John Burckhardt,
Acting Director, Management Analysis and Services Office, Centers for Disease Control and Prevention.

[FR Doc. 01-21907 Filed 8-29-01; 8:45 am]

BILLING CODE 4163-18-P